ENVIRONMENTAL PROTECTION AGENCY

40 CFR Part 52

[EPA-R05-OAR-2010-0037; FRL-10014-72-Region 5]

Air Plan Approval; Minnesota; Revision to Taconite Federal Implementation Plan; Notice of Public Hearing

AGENCY: Environmental Protection Agency (EPA).

ACTION: Proposed rule.

SUMMARY: The Environmental Protection Agency (EPA) is announcing that a virtual public hearing will be held on the proposed action titled, “Air Plan Approval; Minnesota; Revision to Taconite Federal Implementation Plan,” which was published in the Federal Register on February 4, 2020. The hearing will be held on October 14, 2020.

DATES: Comments must be received on or before November 13, 2020. EPA will hold a virtual public hearing on October 14, 2020. Please refer to the SUPPLEMENTARY INFORMATION section for additional information on the public hearing and the submission of written comments.

ADDRESSES: You may submit comments, identified by Docket ID No. EPA-R05-OAR-2010-0037, at http://www.regulations.gov or via email to aburano.douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

Virtual Public Hearing. The virtual public hearing will be held on October 14, 2020. The hearing will convene at 9:00 a.m. Central Daylight Time (CDT) and will conclude at 1:00 p.m. CDT, or 15 minutes after the last pre-registered presenter in attendance has presented if there are no additional presenters. EPA will announce further details on the virtual public hearing website at https://www.epa.gov/mn/revision-taconite-federal-implementation-plan. Refer to the SUPPLEMENTARY INFORMATION section below for additional information.

FOR FURTHER INFORMATION CONTACT: Abigail Teener, Environmental Engineer, Attainment Planning and Maintenance Section, Air Programs Branch (AR-18J), U.S. Environmental Protection Agency, Region 5, 77 West Jackson Boulevard, Chicago, Illinois 60604, 312-353-7314, Taconite-FIP-Revision@epa.gov. The EPA Region 5 office is open from 8:30 a.m. to 4:30 p.m., Monday through Friday, excluding Federal holidays and facility closures due to COVID-19.

SUPPLEMENTARY INFORMATION: Throughout this document whenever “we,” “us,” or “our” is used, we mean EPA.

On February 6, 2013, EPA promulgated a Federal implementation plan (FIP) that included BART limits for certain taconite furnaces in Minnesota and Michigan (2013 Taconite FIP; 78 FR 8706). On February 4, 2020, EPA proposed to revise the 2013 Taconite FIP with respect to the nitrogen oxides (NOX) best available retrofit technology (BART) emission limitations and compliance schedules for the United States Steel Corporation's (U.S. Steel's) Minntac taconite facility (“Minntac” or “Minntac facility”) located in Mt. Iron, Minnesota (85 FR 6125). Specifically, EPA proposed that an aggregate emission limit of 1.6 pounds NOX per million British Thermal Units (lbs NOX/MMBTU), based on a 30-day rolling average, averaged across Minntac's five production lines, represents NOX BART for the Minntac facility. An explanation of the Clean Air Act (CAA) requirements, a detailed analysis of how these requirements apply to Minntac, and EPA's bases for proposing the revised limit and compliance schedule were provided in the notice of proposed rulemaking. The public comment period for this proposed rule ended on March 5, 2020.

One commenter stated that EPA did not provide information regarding a public hearing and did not ask the public if they were interested in a public hearing in accordance with CAA section 307(d)(5). The commenter also stated that EPA did not demonstrate that the agency consulted with Federal Land Managers (FLMs) regarding the proposed FIP revision.

To address these comments, EPA is holding a virtual public hearing and reopening the comment period consistent with CAA section 307(d)(5). Further, EPA has engaged with the FLMs on the proposed revision to the taconite FIP for Minntac. The FLMs have indicated that they have no comments on the proposed FIP revision.

Participation in virtual public hearing. In order to comply with current Centers for Disease Control and Prevention (CDC) recommendations, as well as state and local orders, for social distancing to limit the spread of COVID-19, EPA is holding a virtual public hearing to provide interested parties the opportunity to present data, views, or arguments concerning the proposal.

EPA will begin pre-registering presenters and attendees for the hearing upon publication of this document in the Federal Register. EPA will provide information on participating in the virtual public hearing at https://www.epa.gov/mn/revision-taconite-federal-implementation-plan. To pre-register to attend or present at the virtual public hearing, please use the online registration form available at https://www.epa.gov/mn/revision-taconite-federal-implementation-plan or contact Abigail Teener at 312-353-7314 or by email at Taconite-FIP-Revision@epa.gov. The last day to pre-register to present at the hearing will be October 9, 2020. On October 13, 2020, EPA will post a general agenda for the hearing that will list pre-registered presenters in approximate order at: https://www.epa.gov/mn/revision-taconite-federal-implementation-plan. Additionally, requests to present will be taken on the day of the hearing as time allows.

EPA will make every effort to follow the schedule as closely as possible on the day of the hearing; however, please plan for the hearing to run either ahead of schedule or behind schedule. Each commenter will have 5 minutes to provide oral testimony. EPA encourages commenters to provide EPA with a copy of their oral testimony electronically by including it in the registration form or emailing it to Taconite-FIP-Revision@epa.gov. EPA may ask clarifying questions during the oral presentations but will not respond to the presentations at that time. Written statements and supporting information submitted during the comment period will be considered with the same weight as oral comments and supporting information presented at the virtual public hearing.

EPA is asking all hearing attendees to pre-register, even those who do not intend to present. This will help EPA prepare for the virtual hearing.

Please note that any updates made to any aspect of the hearing will be posted online at https://www.epa.gov/mn/revision-taconite-federal-implementation-plan. While EPA expects the hearing to go forward as set forth above, please monitor our website or contact Abigail Teener at 312-353-7314 to determine if there are any updates. EPA does not intend to publish a document in the Federal Register announcing updates.

If you require the services of a translator or a special accommodation such as audio description/closed captioning, please pre-register for the hearing with Abigail Teener at 312-353-7314 or Taconite-FIP-Revision@epa.gov and describe your needs by October 6, 2020. EPA may not be able to arrange accommodations without advance notice.

How can I get copies of the proposed action and other related information?

EPA has established the official public docket for the proposed action under Docket ID No. EPA-R05-OAR-2010-0037. A copy of the proposed action is also available at https://www.govinfo.gov/content/pkg/FR-2020-02-04/pdf/2020-01321.pdf, and any detailed information related to the proposed action will be available in the public docket prior to the public hearing. Verbatim transcripts of the hearing and written statements will be included in the rulemaking docket.

Authority: 42 U.S.C. 7401 et seq.

Dated: September 14, 2020.
Kurt Thiede,
Regional Administrator, Region 5.

[FR Doc. 2020-20611 Filed 9-28-20; 8:45 am]

BILLING CODE 6560-50-P